FEDERAL COMMUNICATIONS COMMISSION

47 CFR Part 64

[WC Docket Nos. 22-238, 11-42, 21-450; FCC 23-96; FR ID 223185]

Supporting Survivors of Domestic and Sexual Violence; Lifeline and Link Up Reform Modernization

AGENCY: Federal Communications Commission.

ACTION: Final rule; announcement of compliance dates.

SUMMARY: In this document, the Wireline Competition Bureau (Bureau) announces that the Office of Management and Budget (OMB) has approved, for a period of three years, an information collection associated with the Commission's Safe Connections Act Report and Order line separation rules. This document is consistent with the Safe Connections Act Report and Order, which states that the Commission will publish a document in the Federal Register announcing the compliance date of those rules, and to cause those rules to be revised accordingly.

DATES:

Effective date: June 4, 2024.

Compliance date: Compliance with 47 CFR 64.6400 through 64.6407 and the conforming requirement in 47 CFR 64.2010(f)(2), published at 88 FR 84406 on December 5, 2023, and 88 FR 88261 on December 21, 2023, is required by July 15, 2024.

FOR FURTHER INFORMATION CONTACT: For further information regarding the line separation provisions, contact Melissa Kirkel, Competition Policy Division, Wireline Competition Bureau, at (202) 418-7958 or Melissa.Kirkel@fcc.gov. For further information regarding the domestic violence hotline database, contact Ed Krachmer, Competition Policy Division, Wireline Competition Bureau, at (202) 418-1525 or Edward.Krachmer@fcc.gov.

SUPPLEMENTARY INFORMATION: On November 16, 2023, the Commission adopted the Safe Connections Act Report and Order (88 FR 84406 (December 5, 2023), 88 FR 88261 (December 21, 2023) (announcing a final rule correction)) to implement the Safe Connections Act of 2022, Public Law 117-223, 116 Stat. 2280 (Safe Connections Act or SCA). In that rulemaking, the Commission adopted rules to codify and implement the line separation provisions in the SCA. The Commission required covered providers to comply with the rules implementing the SCA's line separation provisions within six months after the effective date of the Order, or after review of the rules by the Office of Management and Budget (OMB) is completed, whichever is later.

On May 3, 2024, OMB completed its review of the Commission's rules implementing the line separation provisions of the SCA. Accordingly, compliance with the line separation requirements adopted by the Commission in the Safe Connections Act Report and Order, 47 CFR 64.6400 through 64.6407, and the conforming requirement in 47 CFR 64.2010(f)(2), is required by July 15, 2024.

The Commission publishes this document as an announcement of the compliance dates of amendments to 47 CFR 64.6400 through 64.6407 and 64.2010(f)(2) and to modify the text of these rules previously published at 88 FR 84406 (December 5, 2023) and 88 FR 88261 (December 21, 2023) (announcing a final rule correction), to incorporate this date and eliminate text referring to pending approval of information collection requirements by OMB.

If you have any comments on the burden estimates listed below, or how the Commission can improve the collections and reduce any burdens caused thereby, please contact Nicole Ongele, Federal Communications Commission, 45 L Street NE, Washington, DC 20554. Please include the OMB Control Number, 3060-1325, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on May 3, 2024, for the information collection requirements contained in the modifications to the Commission's rules in 47 CFR part 64, subpart II (47 CFR 64.6401 through 64.6403, 64.6406). The Wireline Competition Bureau also determined that 47 CFR 64.6404, 64.6405, and 64.6407 did not contain information collection requirements. These actions allow the Wireline Competition Bureau to set the compliance dates for these rules and for the conforming change to 47 CFR 64.2010(f)(2). It is therefore modifying the language of 47 CFR 64.6400 through 64.6407 and 64.2010(f)(2) and (i) to incorporate compliance dates and eliminate text referring to pending approval by OMB.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1325.

The foregoing notice is required by the Paperwork Reduction Act of 1995 (Pub. L. 104-13) October 1, 1995, and 44 U.S.C. 3507.

The total annual reporting burdens and costs for the respondents are as follows:

OMB Control Number: 3060-1325.

OMB Approval Date: May 3, 2024.

OMB Expiration Date: May 31, 2027.

Title: Safe Connections Act—Supporting Survivors of Domestic and Sexual Violence.

Form Number: N/A.

Respondents: Business or other for-profit entities and individuals or households.

Number of Respondents and Responses: 1,650,000 respondents; 1,650,000 responses.

Estimated Time per Response: 1 hour-240 hours (on average).

Frequency of Response: On occasion reporting requirement; third party disclosure requirement.

Obligation to Respond: Required to obtain or retain benefits. Statutory authority for these collections is contained in 47 U.S.C. 345.

Total Annual Burden: 3,527,500 hours.

Total Annual Cost: No Cost.

Needs and Uses: The Safe Connections Act of 2022 (SCA) obligates the Commission to implement rules pursuant to section 4 of the SCA, which requires that covered providers separate the mobile phone telephone lines of domestic violence survivors (and of those persons in their care) from a shared mobile service contract with an abuser within two business days of a request. To implement the line separation process, the Commission establishes this collection, which requires covered providers to notify consumers about the availability of the line separation process and requires survivors to submit certain information to covered providers to request a line separation.

List of Subjects in 47 CFR Part 64

Communications, Communications common carriers, Privacy, Reporting and recordkeeping requirements, Telecommunications, Telephone.

Federal Communications Commission.
Marlene Dortch,
Secretary, Office of the Secretary.

Final Rules

For the reasons discussed in the preamble, the Federal Communications Commission amends 47 CFR part 64 as follows:

PART 64—MISCELLANEOUS RULES RELATING TO COMMON CARRIERS

1. The authority citation for part 64 continues to read as follows:

Authority: 47 U.S.C. 151, 152, 154, 201, 202, 217, 218, 220, 222, 225, 226, 227, 227b, 228, 251(a), 251(e), 254(k), 255, 262, 276, 403(b)(2)(B), (c), 616, 620, 716, 1401-1473, unless otherwise noted; Pub. L. 115-141, Div. P, sec. 503, 132 Stat. 348, 1091.

2. Amend § 64.2010 by:

a. Revising paragraph (f)(2); and

b. Removing paragraph (i).

The revision reads as follows:

§ 64.2010 Safeguards on the disclosure of customer proprietary network information.

* * * * *

(f) * * *

(2) Beginning on July 15, 2024, paragraph (f)(1) of this section does not apply to a change made in connection with a line separation request under 47 U.S.C. 345 and subpart II of this part.

* * * * *

3. Revise § 64.6409 to read as follows:

§ 64.6409 Compliance date.

Compliance with §§ 64.6400 through 64.6407 is required by July 15, 2024.

[FR Doc. 2024-12220 Filed 6-3-24; 8:45 am]

BILLING CODE 6712-01-P